DEPARTMENT OF COMMERCE

National Oceanic and Atmospheric Administration

50 CFR Part 622

[Docket No. 1206013412-2517-02]

RIN 0648-XG110

Fisheries of the Caribbean, Gulf of Mexico, and South Atlantic; 2018 Commercial Accountability Measure and Closure for Gulf of Mexico Greater Amberjack

AGENCY: National Marine Fisheries Service (NMFS), National Oceanic and Atmospheric Administration (NOAA), Commerce.

ACTION: Temporary rule; closure.

SUMMARY: NMFS implements accountability measures (AMs) for commercial greater amberjack in the Gulf of Mexico (Gulf) reef fish fishery for the 2018 fishing year through this temporary rule. NMFS has determined greater amberjack landings have exceeded the 2018 commercial annual catch target (ACT). Therefore, the commercial sector fishing season for greater amberjack in the Gulf exclusive economic zone (EEZ) will not re-open on June 1, 2018, the end of the commercial seasonal closure, and the sector will remain closed until the start of the next commercial fishing season on January 1, 2019. This closure is necessary to protect the Gulf greater amberjack resource.

DATES: This rule is effective 12:01 a.m., local time, June 1, 2018, until 12:01 a.m., local time, January 1, 2019.

FOR FURTHER INFORMATION CONTACT: Kelli O'Donnell, NMFS Southeast Regional Office, telephone: 727-824-5305, or email: Kelli.ODonnell@noaa.gov.

SUPPLEMENTARY INFORMATION: NMFS manages the reef fish fishery of the Gulf, which includes greater amberjack, under the Fishery Management Plan for the Reef Fish Resources of the Gulf (FMP). The Gulf of Mexico Fishery Management Council (Council) prepared the FMP and NMFS implements the FMP under the authority of the Magnuson-Stevens Fishery Conservation and Management Act (Magnuson-Stevens Act) by regulations at 50 CFR part 622. All greater amberjack weights discussed in this temporary rule are in round weight.

The 2018 commercial annual catch limit (ACL) for Gulf greater amberjack is 319,140 lb (144,759 kg), as specified in 50 CFR 622.41(a)(1)(iii). The 2018 commercial quota (equivalent to the commercial ACT) is 277,651 lb (125,940.38 kg), as specified in 50 CFR 622.39(a)(1)(v). Additionally, the greater amberjack commercial sector is closed each year during the months of March, April, and May as specified in 50 CFR 622.36(a).

Under 50 CFR 622.41(a)(1)(i), NMFS is required to close the commercial sector for greater amberjack when the commercial ACT is reached, or is projected to be reached, by filing a notification to that effect with the Office of the Federal Register. NMFS has determined that as of March 15, 2018, 106.4 percent of the 2018 commercial ACT has been reached. Accordingly, NMFS is closing commercial harvest of greater amberjack from the Gulf EEZ for the remainder of the 2018 fishing year effective 12:01 a.m., local time, June 1, 2018, until 12:01 a.m., local time, January 1, 2019. This means that the commercial sector for Gulf greater amberjack will not re-open on June 1, 2018.

During the commercial closure, the sale or purchase of greater amberjack taken from the EEZ is prohibited. The prohibition on sale or purchase does not apply to the sale or purchase of greater amberjack that were harvested, landed ashore, and sold prior to 12:01 a.m., local time, March 1, 2018, and were held in cold storage by a dealer or processor. The commercial sector for greater amberjack will re-open on January 1, 2019, the beginning of the 2019 greater amberjack commercial fishing season.

During the commercial closure, the bag and possession limits specified in 50 CFR 622.38(b)(1) apply to all harvest or possession of greater amberjack in or from the Gulf EEZ. Additionally, the recreational sector for greater amberjack is closed until May 1, 2018. During the recreational closure, the bag and possession limits for greater amberjack in or from the Gulf EEZ are zero.

Classification

The Regional Administrator, Southeast Region, NMFS, has determined this temporary rule is necessary for the conservation and management of Gulf greater amberjack and is consistent with the Magnuson-Stevens Act and other applicable laws.

This action is taken under 50 CFR 622.41(a)(1) and is exempt from review under Executive Order 12866.

These measures are exempt from the procedures of the Regulatory Flexibility Act, because the temporary rule is issued without opportunity for prior notice and comment.

This action responds to the best scientific information available. The Assistant Administrator for NOAA Fisheries (AA), finds that there is good cause to waive the requirements to provide prior notice and opportunity for public comment pursuant to the authority set forth in 5 U.S.C. 553(b)(B). Such procedures are unnecessary because the rule establishing the requirement to close the commercial sector when the commercial ACT is reached or projected to be reached was subject to notice and comment, and NMFS must now notify the public of the closure.

Authority: 16 U.S.C. 1801 et seq.

Dated: March 29, 2018.
Jennifer M. Wallace,
Acting Director, Office of Sustainable Fisheries, National Marine Fisheries Service.

[FR Doc. 2018-06732 Filed 4-2-18; 8:45 am]

BILLING CODE 3510-22-P